DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet via web conference on June 11-12, 2015, from 10:00 a.m. to 3:30 p.m. E.D.T. The DTAB will convene in both open and closed sessions on these two days.

The Board will meet in closed session on June 11, 2015, from 10:00 a.m. to 3:30 p.m., to discuss the proposed revisions to the Mandatory Guidelines for Federal Workplace Drug Testing Programs. Therefore, this meeting is closed to the public as determined by the Administrator, SAMHSA, in accordance with 5 U.S.C. 552b(c)(9)(B) and 5 U.S.C. App. 2, Section 10(d).

On June 12, 2015, from 10:00 a.m. to 3:30 p.m., the meeting will be open to the public. The meeting will include updates on the previously announced DTAB recommendations, the public comments to the request for information on hair, DTAB's process for evaluating the scientific supportability of alternate specimens for federal workplace drug testing programs, HHS approval of entities that certify medical review officers, and the federal custody and control form. The meeting also will include drug testing updates from the Department of Transportation, the Nuclear Regulatory Commission, the Department of Defense, and the Federal Drug-Free Workplace Programs.

The public is invited to attend via web conference. Due to the limited call-in capacity, registration is requested. Public comments are welcome. To obtain the web conference call-in numbers and access codes, submit written or brief oral comments, or request special accommodations for persons with disabilities, please register at the SAMHSA Advisory Committees Web site at http://nac.samhsa.gov/Registration/meetingsRegistration.aspx or contact the CSAP DTAB Designated Federal Official, Dr. Janine Denis Cook (see contact information below).

Meeting information and a roster of DTAB members may be obtained by accessing the SAMHSA Advisory Committees Web site, http://www.samhsa.gov/about-us/advisory-councils/drug-testing-advisory-board-dtab, or by contacting Dr. Cook.

Committee Name: Substance Abuse and Mental Health Services Administration's Center for Substance Abuse Prevention Drug Testing Advisory Board.

Dates/Time/Type: June 11, 2015, from 10:00 a.m. to 3:30 p.m. E.D.T.: CLOSED, June 12, 2015, from 10:00 a.m. to 3:30 p.m. E.D.T.: OPEN.

Place: SAMHSA Building, 1 Choke Cherry Road, Rockville, Maryland 20850.

Contact: Janine Denis Cook, Ph.D., Designated Federal Official, CSAP Drug Testing Advisory Board, 1 Choke Cherry Road, Room 7-1043, Rockville, Maryland 20857, Telephone: 240-276-2600, Fax: 240-276-2610, Email: janine.cook@samhsa.hhs.gov.

Janine Denis Cook,
Designated Federal Official, DTAB, Division of Workplace Programs, Center for Substance Abuse Prevention, Substance Abuse and Mental Health Services Administration.

[FR Doc. 2015-10473 Filed 5-4-15; 8:45 am]

BILLING CODE 4162-20-P